DEPARTMENT OF DEFENSE

Department of the Air Force

32 CFR Part 881

[Docket ID: USAF-2019-HQ-0005]

RIN 0701-AA91

Determination of Active Military Service and Discharge for Civilian or Contractual Groups

AGENCY: Department of the Air Force, DoD.

ACTION: Final rule.

SUMMARY: This final rule removes the Department of the Air Force's regulation containing procedures for processing discharge applications of civilians or contractors claiming prior active military service with the Air Force or a predecessor organization. The content of this part is addressed in a DoD-level regulation, and it is unnecessary.

DATES: This rule is effective on September 30, 2019.

FOR FURTHER INFORMATION CONTACT: Lt Col Matthew Huibregtse, 703-571-0827.

SUPPLEMENTARY INFORMATION: This final rule removes 32 CFR part 881, “Determination of Active Military Service and Discharge for Civilian or Contractual Groups,” which was codified on June 23, 1999 (64 FR 33400), and never updated. It has been determined that publication of this CFR part removal for public comment is impracticable, unnecessary, and contrary to public interest since it is based on removing content which is covered in the DoD-level regulation at 32 CFR part 47, “Active Duty Service for Civilian or Contractual Groups” (codified on September 29, 1989, at 54 FR 39993). To the extent that internal Air Force procedures concerning discharge applications are necessary, they will continue to be published in Air Force Instruction 36-2602, “Application For Individual Discharge Of Member Of A Civilian Or Contractual Group Determined To Qualify For Active Duty Service,” (updated January 12, 2017) which is available at: http://static.e-publishing.af.mil/production/1/af_a1/publication/afi36-2602/afi36-2602.pdf.

This rule is not significant under Executive Order (E.O.) 12866, “Regulatory Planning and Review.” Therefore; E.O. 13771, “Reducing Regulation and Controlling Regulatory Costs” does not apply.

List of Subjects in 32 CFR Part 881

Military personnel, Veterans.

PART 881—[REMOVED]

Accordingly, by the authority of 5 U.S.C. 301, 32 CFR part 881 is removed.

Adriane S. Paris,
Air Force Federal Register Liaison Officer.

[FR Doc. 2019-20607 Filed 9-27-19; 8:45 am]

BILLING CODE 5001-10-P